OVERSEAS PRIVATE INVESTMENT CORPORATION

July 17, 2008 Board of Directors Meeting

Time and Date: Thursday, July 17, 2008, 10 a.m. (Open Portion). 10:15 a.m. (Closed Portion).

Place: Offices of the Corporation, Twelfth Floor Board Room, 1100 New York Avenue, NW., Washington, DC.

Status: Meeting Open to the Public from 10 a.m. to 10:15 a.m. Closed portion will commence at 10:15 a.m. (approx.)

Matters to be Considered:

1. President's Report.

2. Approval of April 17, 2008 Minutes (Open Portion).

Further Matters to be Considered: (Closed to the Public 10:15 a.m.)

1. Report from Audit Committee.

2. Finance Project—Jordan.

3. Finance Project—Egypt.

4. Finance and Insurance Project— The Republic of Togo.

5. Finance Project—Russia.

6. Finance Project—Global.

7. Insurance Project—Jordan.

8. Finance Project—Africa.

9. Finance Project—Sub-Saharan Africa.

10. Finance Project—Mexico/Latin America.

11. Finance Project—Asia and the Pacific Islands.

12. Approval of March 21, 2008 Minutes (Closed Portion).

13. Approval of April 17, 2008 Minutes (Closed Portion).

14. Pending Major Projects.

15. Reports.

FOR FURTHER INFORMATION CONTACT: Information on the meeting may be obtained from Connie M. Downs at (202) 336-8438.

Dated: July 2, 2008.
Connie M. Downs,
Corporate Secretary, Overseas Private Investment Corporation.

[FR Doc. 08-1416 Filed 7-2-08; 12:21 pm]

BILLING CODE 3210-01-P